DEPARTMENT OF COMMERCE

National Oceanic and Atmospheric Administration

RIN 0648-XM64

New England Fishery Management Council; Public Meeting

AGENCY: National Marine Fisheries Service (NMFS), National Oceanic and Atmospheric Administration (NOAA), Commerce.

ACTION: Notice of a public meeting.

SUMMARY: The New England Fishery Management Council(s (Council) Groundfish Oversight Committee will meet to consider actions affecting New England fisheries in the exclusive economic zone (EEZ).

DATES: The meeting will be held on Thursday, January 29, 2009 at 9 a.m.

ADDRESSES: The meeting will be held at the Holiday Inn, 31 Hampshire Street, Mansfield, MA 02048; telephone: (508) 339-2200.

Council address: New England Fishery Management Council, 50 Water Street, Mill 2, Newburyport, MA 01950.

FOR FURTHER INFORMATION CONTACT: Paul J. Howard, Executive Director, New England Fishery Management Council; telephone: (978) 465-0492.

SUPPLEMENTARY INFORMATION: The items of discussion in the committee(s agenda are as follows:

1. The Groundfish Oversight Committee will meet to continue work on Amendment 16 to the Northeast Multispecies Fishery Management Plan. Amendment 16 is under development to adjust management measures as necessary to continue stock rebuilding. At this meeting, the Committee will review the draft amendment document. They may develop recommendations for any of the management measures under development. Specific items likely to be addressed include, but are not limited to, annual catch limit and accountability measures for the commercial and recreational fisheries, effort control measures, sector administration, monitoring, and policy issues, and gear requirements to reduce incidental catches of regulated groundfish (including requirements for small mesh fisheries in the southern New England and Mid-Atlantic regulated mesh areas).

2. The Committee may also develop recommendations for the identification of preferred alternatives.

3. Other business.

Recommendations from the Committee will be considered by the Council at its meeting, on February 9-11, 2009, in Portsmouth, NH.

Although non-emergency issues not contained in this agenda may come before this group for discussion, those issues may not be the subject of formal action during this meeting. Action will be restricted to those issues specifically identified in this notice and any issues arising after publication of this notice that require emergency action under section 305(c) of the Magnuson-Stevens Fishery Conservation and Management Act, provided the public has been notified of the Council(s intent to take final action to address the emergency.

Special Accommodations

This meeting is physically accessible to people with disabilities. Requests for sign language interpretation or other auxiliary aids should be directed to Paul J. Howard (see ADDRESSES) at least 5 days prior to the meeting date.

Authority: 16 U.S.C. 1801 et seq.

Dated: January 7, 2009.
Tracey L. Thompson,
Acting Director, Office of Sustainable Fisheries, National Marine Fisheries Service.

[FR Doc. E9-310 Filed 1-9-09; 8:45 am]

BILLING CODE 3510-22-S